DEPARTMENT OF THE TREASURY

Customs Service

Retraction of Revocation Notice

AGENCY: U.S. Customs Service, Department of the Treasury.

ACTION: General notice.

SUMMARY: The following Customs broker licenses were erroneously included in a list of revoked Customs broker licenses.

Name | License | Port name
Jamie Davila | 06093 | New York.
GPS Custom House Brokerage, Inc | 07181 | Washington, DC.

Customs broker license Nos. 06093 and 07181 remain valid.

Dated: January 13, 2003.
Jayson P. Ahern,
Assistant Commissioner, Office of Field Operations.

[FR Doc. 03-1279 Filed 1-21-03; 8:45 am]

BILLING CODE 4820-02-P